DEPARTMENT OF TRANSPORTATION

Maritime Administration

[Docket Number MARAD-2019-0093]

Deepwater Port License Application: Texas GulfLink, LLC—Supplemental Draft Environmental Impact Statement

AGENCY: Maritime Administration, Department of Transportation.

ACTION: Notice of availability; notice of virtual public meeting; request for comments.

SUMMARY: The Maritime Administration (MARAD) and the U.S. Coast Guard (USCG) announce the availability of the Supplemental Draft Environmental Impact Statement (SDEIS) for the Texas GulfLink LLC (GulfLink) deepwater port license application for the export of crude oil from the United States to nations abroad. The GulfLink deepwater port license application describes a proposed project that would be located approximately 26.6 nautical miles off the coast of Brazoria County, Texas. Publication of this notice begins a 45-day comment period, (1) requests public participation in the environmental impact review process, (2) provides information on how to participate in the environmental impact review process, and (3) announces the availability of an informational Virtual Open House website (Virtual Room), and a Virtual Public Meeting that will be held via Zoom. Registration information is provided in the Virtual Public Meeting and Virtual Open House website (Virtual Room) section of this notice.

DATES: Comments on the SDEIS must be received on or before 45 days from the date of publication of this Federal Register Notice. MARAD and USCG will hold one Virtual Public Meeting in connection with the GulfLink SDEIS. This Virtual Public Meeting will be held via Zoom on October 18, 2022, from 6 p.m. to 8 p.m. Central Daylight Time (CDT). The Virtual Public Meeting will end no earlier than 8 p.m. CDT, but it may end later than the stated time, depending on the number of persons who wish to comment on the record. Anyone interested in attending or speaking during the Virtual Public Meeting must register in advance. Additionally, materials submitted in response to this request for comments on the SDEIS must be submitted to the https://www.regulations.gov website or the Federal Docket Management Facility as detailed in the ADDRESSES section below by the end of the comment period.

ADDRESSES: You may submit comments identified by DOT Docket Number MARAD-2019-0093 by any one of the following methods:

• Federal eRulemaking Portal: Go to https://www.regulations.gov, search MARAD-2019-0093 and follow the instructions for submitting comments.

• Mail or Hand Delivery: The Docket Management Facility is in the West Building, Ground Floor of the U.S. Department of Transportation. The Docket Management Facility location address is U.S. Department of Transportation, MARAD-2019-0093, 1200 New Jersey Avenue SE, West Building, Room W12-140, Washington, DC 20590. Due to flexible work schedules in response to COVID-19, call 202-493-0402 to determine facility hours prior to hand delivery.

Note: If you mail or hand-deliver your comments, we recommend that you include your name and a mailing address, an email address, and/or a telephone number on a cover page, so that we can contact you if we have questions regarding your submission.

Instructions: All submissions received must include the agency name and specific docket number. All comments received will be posted without change to the docket at https://www.regulations.gov, including any personal information provided. For detailed instructions on submitting comments, see the section entitled “PUBLIC PARTICIPATION.”

Contact USCG via email at DeepwaterPorts@uscg.mil and MARAD via email at GulfLink_EIS@dot.gov. Include “MARAD-2019-0093” in the subject line of the message. The purpose of providing the email contact information is to offer the public the opportunity to obtain answers related to the Virtual Public Meeting. This email will not be relied on for the intake of comments on the GulfLink deepwater port license application. To submit written comments and other material submissions, please follow the directions above.

SUPPLEMENTARY INFORMATION:

Prior Federal Actions

A Notice of Application that summarized the GulfLink Deepwater Port License Application was published in the Federal Register on June 26, 2019 (84 FR 30298-30300). A Notice of Intent to Prepare an Environmental Impact Statement (EIS) and Notice of Public Scoping Meeting was published in the Federal Register on July 3, 2019 (84 FR 32008-32010). A Notice of Availability of the Draft Environmental Impact Statement (DEIS) and Notice of Public Meeting was published in the Federal Register on November 27, 2020 (85 FR 76157-76159). A Notice of Availability and Notice of Virtual Public Meeting was published in the Federal Register on September 24, 2021 (86 FR 53144-53147).

Request for Comments

We request public comments or other relevant information related to the SDEIS for the proposed GulfLink deepwater port. These comments will inform the environmental review of the proposed GulfLink project. We encourage you to review the information on the website and attend the Virtual Public Meeting. Also, you may submit comments electronically. It is preferred that comments be submitted electronically. Please see the information in the ADDRESSES section above on how to properly submit comments. All comments submitted to the docket via https://www.regulations.gov or delivered to the Federal Docket Management Facility will be posted, without change, to the Federal Docket Management Facility website (https://www.regulations.gov) and will include any personal information you provide. Therefore, submitting such information makes it public. You may view docket submissions at the DOT Docket Management Facility or electronically at the https://www.regulations.gov website.

Virtual Public Meeting and Virtual Open House Website

You are invited to learn about the proposed GulfLink deepwater port via the informational website https://tgldwp.consultation.ai. You are also invited to attend the Virtual Public Meeting and encouraged to provide comments to the DOT GulfLink Docket on the proposed action and the environmental impact analysis contained in the SDEIS for the proposed GulfLink deepwater port. Speakers must register for the Virtual Public Meeting via the informational website. When registering, please indicate if you would like the opportunity to provide a live comment during the meeting or if you are participating to listen only.

If you need help registering, have questions on how to register, or would like to register by telephone, please contact 833-588-1191 and leave a voice mail message. This line is not a manned phone line; however, the voice mail box is checked at regular intervals on weekdays (between the hours of 8 a.m. to 5 p.m. Eastern Standard Time). Therefore, if you leave your full name with the correct spelling and your phone number after the tone, then a project team member will return your call and provide direct assistance.

During the Virtual Public Meeting, speakers will be recognized in the following order: elected officials, public agency representatives, and then individuals or groups in the order in which they registered. In order to accommodate all speakers, speaker time may be limited, meeting hours may be extended, or both. Speakers' transcribed remarks will be included in the public docket. You may also submit written material for inclusion in the public docket. Written material must include the author's name. We ask attendees to respect the meeting procedures in order to ensure a constructive information-gathering session. The presiding officer will use his/her discretion to conduct the meeting in an orderly manner.

The Virtual Public Meeting will be conducted in English; however, translation services will be provided in Spanish. Virtual Public Meeting attendees who require special assistance, such as translation services or other reasonable accommodation, please notify MARAD and USCG (see ADDRESSES) at least five business days in advance. Please include contact information as well as information about specific needs.

Background

On May 30, 2019, MARAD and USCG received a license application from GulfLink for a license to own, construct, and operate a deepwater port for the export of crude oil. The proposed deepwater port would be located in the U.S. Exclusive Economic Zone, approximately 26.6 nautical miles off the coast of Brazoria County, Texas. Texas was designated as the Adjacent Coastal State (ACS) for the GulfLink license application.

The Federal agencies involved held a public scoping meeting in connection with the evaluation of the GulfLink license application. The public scoping meeting was held in Lake Jackson, Texas, on July 17, 2019. The transcript of the scoping meeting is included on the public docket at https://www.regulations.gov/document/MARAD-2019-0093-0047. The Federal agencies also held two consecutive virtual DEIS public meetings to receive comments on the DEIS. The virtual public comment meetings were held on December 16, 2020, and December 17, 2020. The public comment period began on November 27, 2020, and ended on January 22, 2021. Transcripts of the DEIS public comment meetings are provided on the public docket at https://www.regulations.gov/document/MARAD-2019-0093-0318, https://www.regulations.gov/document/MARAD-2019-0093-0319, and https://www.regulations.gov/document/MARAD-2019-0093-2839.

The Federal agencies also held a third virtual DEIS public comment meeting to receive comments on the DEIS. The public meeting was held virtually on October 14, 2021. The transcripts of the DEIS public comment meetings are also included on the public docket at https://www.regulations.gov/document/MARAD-2019-2853.

After the publication of the DEIS, GulfLink revised its deepwater license application in response to ongoing consultation with regulatory agencies and subsequently refined the design of the proposed deepwater port by adding a vapor control system into the design and operation of the proposed GulfLink deepwater port. The purpose of the SDEIS is to analyze the direct, indirect, and cumulative environmental impacts of the revised proposed action, and to identify and analyze the environmental impacts of a reasonable range of alternatives. The SDEIS is currently available for public review and comment at the Federal docket website: https://www.regulations.gov under docket number MARAD-2019-0093.

Summary of the License Application

GulfLink is proposing to own, construct, and operate a deepwater port terminal in the Gulf of Mexico to export domestically produced crude oil. Use of the deepwater port would include the loading of various grades of crude oil at flow rates of up to 85,000 barrels per hour (bph). The GulfLink deepwater port would allow for up to two Very Large Crude Carriers (VLCCs) or other crude oil carriers to moor at single point mooring (SPM) buoys and connect with the deepwater port via floating connecting crude oil hoses and a floating vapor recovery hose. Although two VLCCs can be moored to the DWP simultaneously, only one can be loaded at a time. The maximum frequency of loading VLCCs or other crude oil carriers would be one million barrels per day, 365 days per year.

The overall project would consist of offshore and marine components as well as onshore components, as described below.

Offshore and marine components would consist of the following:

• An Offshore Platform: One fixed offshore platform with piles in Outer Continental Shelf Galveston Area Lease Block GA-423, 26.6 nautical miles off the coast of Brazoria County, Texas, in a water depth of approximately 104 feet. The fixed offshore platform would have four decks comprised of personal living space, pipeline metering, a surge system, a pig receiving station, generators, lease automatic custody transfer unit, oil displacement prover loop, sample system, radar tower, electrical and instrumentation building, portal cranes, a hydraulic crane, an Operations/Traffic Room, and helicopter deck.

• One 42-inch outside diameter, 28.1-nautical-mile long crude oil pipeline would be constructed from the shoreline crossing in Brazoria County, Texas, to the GulfLink DWP for crude oil delivery. This pipeline would connect the proposed onshore Jones Creek Terminal described below to the offshore platform.

• The fixed offshore platform is connected to VLCC tankers for loading by two separate 42-inch diameter departing pipelines. Each pipeline will depart the fixed offshore platform, carrying the crude oil to a Pipeline End Manifold (PLEM) in approximately 104 feet water depth located 1.25 nautical miles from the fixed offshore platform. Each PLEM is then connected to a Single Point Mooring (SPM) Buoy through two 24-inch cargo hoses. Two 24-inch floating cargo hoses will connect each SPM Buoy to the VLCC (or other crude oil carrier type). SPM Buoy 1 is positioned in Outer Continental Shelf Galveston Area Lease Block GA-423 and SPM Buoy 2 is positioned in Outer Continental Shelf Galveston Area Lease Block GA-A36.

• Use of a dynamically positioned third-party Offshore Support Vessel, equipped with a vapor processing system to control the release of vapor emissions during the cargo loading operations of the proposed GulfLink DWP.

Onshore storage and supply components for the GulfLink DWP would consist of the following:

• An Onshore Storage Terminal: The proposed Jones Creek Terminal would be located in Brazoria County, Texas, on approximately 262 acres of land, consisting of eight above ground storage tanks, each with a working storage capacity of 708,168 barrels, for a total onshore storage capacity of approximately 5,655,344 million barrels. The facility can accommodate four additional tanks, bringing the total to twelve tanks or 8,498,016 million barrels of storage capacity.

• The Jones Creek Terminal also would include: Six electric-driven mainline crude oil pumps; three electric driven booster crude oil pumps; one crude oil pipeline pig launcher; one crude oil pipeline pig receiver; two measurement skids for measuring incoming crude oil—one skid located on the Department of Energy's Bryan Mound facility, and one skid installed for the outgoing crude oil barrels leaving the tank storage to be loaded on the VLCC; and ancillary facilities to include an operations control center, electrical substation, offices, and warehouse building.

• Two onshore crude oil pipelines would be constructed to support the GulfLink DWP and include the following:

○ One proposed incoming 9.1-statute mile long, 36-inch outside diameter pipeline connected to a leased 40-inch ExxonMobil pipeline originating at the Department of Energy's Bryan Mound facility with connectivity to the Houston market.

○ One proposed outgoing 12.1-statute mile long, 42-inch outside diameter pipeline connecting the Jones Creek Terminal to the shore crossing, where the offshore portion of this pipeline begins and supplies the proposed offshore GulfLink DWP.

As previously stated, the purpose of this notice is to announce that the SDEIS is currently available for public review and a 45-day public comment period. Comments can be submitted through the Federal docket website: https://www.regulations.gov under docket number MARAD-2019-0093.

Public Participation Instructions

How long do I have to submit comments?

We are providing a 45-day comment period.

How do I prepare and submit comments?

To ensure that your comments are correctly filed in the Docket, please include the docket number shown at the beginning of this document in your comments.

If you are submitting comments electronically as a PDF (Adobe) File, MARAD and USCG ask that the documents be submitted using the Optical Character Recognition (OCR) process, thus allowing the agencies to search and copy certain portions of your submissions. Comments may be submitted to the docket electronically at http://www.regulations.gov. Search using the MARAD docket number in this notice and follow the online instructions for submitting comments.

You may also submit two copies of your comments, including the attachments, to Docket Management at the address given above under ADDRESSES.

Please note that pursuant to the Data Quality Act, for substantive data to be relied upon and used by the agency, it must meet the information quality standards set forth in the OMB and DOT Data Quality Act guidelines. Accordingly, we encourage you to consult the guidelines in preparing your comments. OMB's guidelines may be accessed at https://www.whitehouse.gov/omb/fedreg/reproducible.html. DOT's guidelines may be accessed at https://www.bts.gov/programs/statistical_policy_and_research/data_quality_guidelines.

I provided MARAD and USCG comments on the GulfLink SDEIS, orally or in writing, in another forum. May I provide comments in response to this notice as well?

Yes, MARAD and USCG encourage any member of the public to submit relevant comments for the docket, including input that has previously been communicated to the agencies.

How can I be sure that my comments were received?

If you wish Docket Management to notify you upon its receipt of your comments, enclose a self-addressed, stamped postcard in the envelope containing your comments. Upon receiving your comments, Docket Management will return the postcard by mail.

Will the agency consider late comments?

MARAD and USCG will consider all substantive comments that Docket Management receives before the close of business on the comment closing date indicated above under DATES.

How can I read the comments submitted by other people?

You may read the comments received by Docket Management at the address given above under ADDRESSES. The hours of the Docket Management Unit are indicated above in the same location. You may also see the comments on the internet. To read the comments on the internet, go to https://www.regulations.gov. Follow the online instructions for accessing the dockets.

Please note that even after the comment closing date, MARAD will continue to file relevant information in the Docket as it becomes available. Accordingly, we recommend that you periodically check the Docket for new material.

Privacy Act

Anyone can search the electronic form of all comments received into any of our dockets by the name of the individual submitting the comment (or signing the comment if submitted on behalf of an association, business, labor union, etc.). For information on DOT's compliance with the Privacy Act, please visit https://www.transportation.gov/privacy.

(Authority: 49 CFR 1.93)

By order of the Maritime Administrator.
T. Mitchell Hudson, Jr.,
Secretary, Maritime Administration.

[FR Doc. 2022-20752 Filed 9-29-22; 8:45 am]

BILLING CODE 4910-81-P